DEPARTMENT OF DEFENSE

Office of the Secretary

Privacy Act of 1874; System of Records

AGENCY: Office of the Secretary, DoD.

ACTION: Notice to add a system of records; correction.

SUMMARY: On Wednesday, November 23, 2005 (70 FR 70789), the Department of Defense published a System of Records Privacy Act notice. This notice corrects the telephone number for the FOR FURTHER INFORMATION CONTACT for that notice. The telephone number for Ms. Juanita Irvin is corrected to read 703-696-4940. All other information remains unchanged.

Dated: December 2, 2005.
L.M. Bynum,
Alternate OSD Federal Register Liaison Officer, Department of Defense.

[FR Doc. 05-23781 Filed 12-7-05; 8:45am]

BILLING CODE 5001-06-M